DEPARTMENT OF LABOR

Employment and Training Administration

[NAFTA-04779]

Mar-Bax Shirt Co., Capital Mercury Apparel Ltd., Gassville, AR; Notice of Termination of Investigation

Pursuant to Section 221 of the Trade Act of 1974, an investigation was initiated on March 16, 2001 in response to a worker petition which was filed on behalf of workers at Mar-Bax Shirt Co., Capital Mercury Apparel Ltd., Gassville, Arkansas.

The petitioning group of workers is subject to an ongoing investigation for which a determination has not yet been issued NAFTA-04752. Consequently, further investigation in this case would serve no purpose, and the investigation has been terminated.

Signed at Washington, DC this 17th day of May 2001.
Linda G. Poole,
Certifying Officer, Division of Trade Adjustment Assistance.

[FR Doc. 01-13223 Filed 5-24-01; 8:45 am]

BILLING CODE 4510-30-M